INTERNATIONAL TRADE COMMISSION

[Inv. No. 337-TA-841]

Certain Computers and Computer Peripheral Devices and Components Thereof and Products Containing the Same; Institution of Investigation Pursuant to 19 U.S.C. 1337

AGENCY: U.S. International Trade Commission.

ACTION: Notice.

SUMMARY: Notice is hereby given that a complaint was filed with the U.S. International Trade Commission on March 27, 2012, under section 337 of the Tariff Act of 1930, as amended, 19 U.S.C. 1337, on behalf of Technology Properties Limited, LLC of Cupertino, California. Letters supplementing the complaint were filed on April 11, 2012, and April 16, 2012. The complaint alleges violations of section 337 based upon the importation into the United States, the sale for importation, and the sale within the United States after importation of certain computers and computer peripheral devices and components thereof and products containing the same by reason of infringement of certain claims of U.S. Patent No. 6,976,623 (“the ‘623 patent”); U.S. Patent No. 7,162,549 (“the ‘549 patent”); U.S. Patent No. 7,295,443 (“the ‘443 patent”); U.S. Patent No. 7,522,424 (“the ‘424 patent”); U.S. Patent No. 6,438,638 (“the ‘638 patent”); and U.S. Patent No. 7,719,847 (“the ‘847 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on April 26, 2012, ordered that—

(1) Pursuant to subsection (b) of section 337 of the Tariff Act of 1930, as amended, an investigation be instituted to determine whether there is a violation of subsection (a)(1)(B) of section 337 in the importation into the United States, the sale for importation, or the sale within the United States after importation of certain computers and computer peripheral devices and components thereof and products containing the same that infringe one or more of claims 1-4, 9-12, and 17-19 of the ‘623 patent; claims 7, 11, 19, and 21 of the ‘549 patent; claims 1, 3, 4, 7, 9, 11, 12, and 14 of the ‘443 patent; claims 25, 26, 28, and 29 of the ‘424 patent; claims 13-18 and 25-27 of the ‘638 patent; and claims 1-3 of the ‘847 patent, and whether an industry in the United States exists as required by subsection (a)(2) of section 337;

(2) For the purpose of the investigation so instituted, the following are hereby named as parties upon which this notice of investigation shall be served:

(a) The complainant is: Technology Properties Limited, LLC, 20883 Stevens Creek Boulevard, Suite 100, Cupertino, CA 95014.

(b) The respondents are the following entities alleged to be in violation of section 337, and are the parties upon which the complaint is to be served:

Acer Inc., 8F, 88, Sec.1, Xintai 5th Road, Xizhi, New Taipei City 221, Taiwan.

Brother Industries, Ltd., 15-1, Naeshiro-cho, Mizuho-ku, Nagoya, Aichi 467-8561, Japan.

Canon Inc., 30-2, Shimomaruko 3-chome, Ohta-ku, Tokyo 146-8501, Japan.

Dane-Elec Memory, 159 Avenue Gallieni, BP33, 93171 Bagnolet Cedex, France.

Dell Inc., One Dell Way, Round Rock, TX 78682.

Falcon Northwest Computer Systems, Inc., 2015 Commerce Drive, Medford, OR 97504.

Fujitsu Limited, Shiodome City Center, 1-5-2 Higashi-Shinbashi, Minato-ku, Tokyo, 105-7123, Japan.

Jasco Products Company, 10 East Memorial Road, Building B, Oklahoma City, OK 73114 -2205.

Hewlett-Packard Company, 3000 Hanover Street, Palo Alto, CA 94304-1185.

HiTi Digital, Inc., 9F., No. 225, Sec. 3, Beixin Road, Xindian Dist., New Taipei City 231, Taiwan.

Kingston Technology Company, Inc.,

17600 Newhope Street,

Fountain Valley, CA 92708.

Micron Technology, Inc.,

8000 S. Federal Way,

Boise, ID 83707-0006.

Lexar Media, Inc.,

47300 Bayside Parkway,

Fremont, CA 94538.

Microdia Limited,

The Concourse, Technology Drive,

San Jose, CA 95110.

Newegg Inc.,

16839 East Gale Avenue,

City of Industry, CA 91745.

Rosewill Inc.,

17708 Rowland Street,

City of Industry, CA 91748.

Sabrent,

9720 Variel Avenue,

Chatsworth, CA 91311.

Samsung Electronics Co., Ltd.,

Samsung Main Building,

250, Taepyeongno 2-ga, Jung-gu,

Seoul 100-742,

Republic of Korea.

Seiko Epson Corporation,

3-3-5 Owa, Suwa,

Nagano,

Japan.

Shuttle Inc.,

No. 30, Lane 76, Rei Kuang Road,

Nei-Hu Dist., Taipei,

Taiwan.

Systemax Inc.,

11 Harbor Park Drive,

Port Washington, NY 11050.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 27, 2012.
James R. Holbein,
Secretary to the Commission.

[FR Doc. 2012-10558 Filed 5-1-12; 8:45 am]

BILLING CODE 7020-02-P